DEPARTMENT OF HOUSING AND URBAN DEVELOPMENT

[Docket No. FR-4743-N-05]

Notice of Planned Closing of Brockton, Massachusetts Post-of-Duty

AGENCY: Office of Inspector General, HUD.

ACTION: Notice of planned closing of Brockton, Massachusetts Post-of-Duty station.

SUMMARY: This notice advises the public that the HUD Office of Inspector General (OIG) is closing its Brockton, Massachusetts post-of-duty station, and also provides a cost-benefit analysis of the impact of the closure.

FOR FURTHER INFORMATION CONTACT: Bryan Saddler, Counsel to the Inspector General, Room 8260, Department of Housing and Urban Development, 451 Seventh Street, SW., Washington, DC 20410, (202) 708-1613. (This is not a toll free number.) A telecommunications device for hearing- and speech-impaired persons (TTY) is available at 1-800-877-8339 (Federal Information Relay Services). (This is a toll-free number.)

SUPPLEMENTARY INFORMATION:

Background

In 2000, HUD/OIG established a two person post-of-duty station in Brockton, Massachusetts, to give direct support to the Operation Safe Home (OSH) initiative to combat violent and drug related crime in the public and assisted housing in the city and nearby communities. Although Brockton, Massachusetts, is only about 30 miles from Boston, Massachusetts, where the HUD/OIG has it's Regional Office, the nationwide experience since the initiation of OSH in 1994 had proven that the best results/impact could be obtained when an HUD/OIG Special Agent was physically located in the target city. However, in accordance with the requirements of the Fiscal Year 2002 HUD Appropriations Act (Pub. L. 107-73, approved November 26, 2001), HUD/OIG terminated OSH and is re-deploying staff to focus on investigations involving single-family fraud and property flipping. This change eliminates the need to maintain a separate post-of-duty station in Brockton, Massachusetts, and gives HUD/OIG the opportunity to generate cost savings associated with discontinuing an additional office.

Section 7(p) of the Department of Housing and Urban Development Act (42 U.S.C. 3535(p)) provides that a plan for field reorganization, which may involve the closing of any field or regional office, of the Department of Housing and Urban Development may not take effect until 90 days after a cost-benefit analysis of the effect of the plan on the office in question is published in the Federal Register. The required cost-benefit analysis should include: (1) An estimate of cost savings anticipated; (2) an estimate of the additional cost which will result from the reorganization; (3) a discussion of the impact on the local economy; and (4) an estimate of the effect of the reorganization on the availability, accessibility, and quality of services provided for recipients of those services.

Legislative history pertaining to section 7(p) indicates that not all reorganizations are subject to the requirements of section 7(p). Congress stated that “[t]his amendment is not intended to [apply] to or restrict the internal operations or organization of the Department (such as the establishment of new or combination of existing organization units within a field office, the duty stationing of employees in various locations to provide on-site service, or the establishment or closing, based on workload, of small, informal offices such as valuation stations).” (See House Conference Report No. 95-1792, October 14, 1978 at 58.)

The two-person duty-station in Brockton, Massachusetts, is a single purpose duty station, and the duty station is being closed based on workload rather than a reorganization of HUD/OIG field offices. Although notice of the closing of a duty station is not subject to the requirement of section 7(p), as supported by legislative history, HUD/OIG nevertheless prepared a cost benefit analysis for its own use in determining whether to proceed with the closing. Through this notice, HUD/OIG advises the public of the closing of the Brockton, Massachusetts, duty station and provides the cost benefit analysis of the impact of the closure.

Impact of The Closure of The Brockton, Massachusetts, Post-Of-Duty Station

HUD/OIG considered the costs and benefits of closing the Brockton, Massachusetts, post-of-duty station, and is publishing its cost-benefit analysis with this notice. In summary, HUD/OIG has determined that the closure will result in a cost savings, and, as a result of the size and limited function of the office, will cause no appreciable impact on the provision of authorized investigative services/activities in the area (i.e., OSH activities, of course, will be impacted, but HUD/OIG has been directed to terminate these activities).

Cost-Benefit Analysis

A. Cost Savings: The Brockton, Massachusetts, post-of-duty station currently costs approximately $905 per month for space rental. Additional associated overhead expenses (e.g., telephone service) are incurred to operate the post-of-duty station. Thus, closing the office will result in annual savings of at least $10,000. In addition, by closing the office HUD/OIG will not be required to incur additional costs associated with current plans to install high-speed computer access lines to and on the premises.

B. Additional Costs: There are no offsetting expenses anticipated. Currently, only one Special Agent is assigned to the Brockton, Massachusetts, post-of-duty station, and he is being reassigned to HUD/OIG's Regional Office in Boston, Massachusetts. No relocation costs are associated with this reassignment.

C. Impact on Local Economy: No appreciable impact on the local economy is anticipated. The post-of-duty station is only 679 square feet and is located in the Federal Courthouse. Further, it is anticipated that the space can easily be re-leased to other tenants.

D. Effect on Availability, Accessibility and Quality of Services Provided to Recipients of Those Services: The establishment of the Brockton, Massachusetts, post-of-duty station was based entirely on the needs of the HUD/OIG to have Special Agents in closer proximity to OSH activities conducted in the Brockton area. These activities have been terminated. Further, as was the case prior to 2000, fraud investigations in the Brockton area can be cost-effectively addressed by special agents assigned to the Boston Regional Office, which is about 30 miles away.

For the reasons stated in this notice, HUD/OIG intends to proceed to close its Brockton, Massachusetts, post-of-duty station at the expiration of the 90-day period from the date of publication of this notice.

Dated: February 19, 2003.
Kenneth M. Donohue, Sr.,
Inspector General.

[FR Doc. 03-4731 Filed 2-27-03; 8:45 am]

BILLING CODE 4210-78-P